DEPARTMENT OF HOMELAND SECURITY

U.S. Customs and Border Protection

Request for Applicants for Appointment to the U.S. Customs and Border Protection Airport and Seaport Inspections User Fee Advisory Committee

AGENCY: U.S. Customs and Border Protection, Department of Homeland Security (DHS).

ACTION: Committee Management: request for applicants for appointment to the U.S. Customs and Border Protection Airport and Seaport Inspections User Fee Advisory Committee.

SUMMARY: U.S. Customs and Border Protection (CBP) is requesting individuals who are interested in serving on the U.S. Customs and Border Protection Airport and Seaport Inspections User Fee Advisory Committee (or the Committee) to apply for appointment. The Committee provides advice and makes recommendations to the Commissioner of CBP on issues related to the performance of airport and seaport inspections involving agriculture, customs, and immigration concerns.

DATES: Applications for membership should reach CBP on or before March 1, 2010.

ADDRESSES: If you wish to apply for membership, your application should be sent to CBP by one of the following methods:

• E-mail: Traderelations@dhs.gov.

• Facsimile: (202) 344-1969.

• Mail: Ms. Elizabeth Williamson, Program Management Analyst, Office of Trade Relations, Customs and Border Protection, 1300 Pennsylvania Avenue, NW., Room 5.2A, Washington, DC 20229.

FOR FURTHER INFORMATION CONTACT: Ms. Elizabeth Williamson, Program Management Analyst, Office of Trade Relations, U.S. Customs and Border Protection, (202) 344-1440, FAX (202) 344-1969.

SUPPLEMENTARY INFORMATION:

Background

The U.S. Customs and Border Protection Airport and Seaport Inspections User Fee Advisory Committee was established as an advisory committee in accordance with the provisions of the Federal Advisory Committee Act (FACA), 5 U.S.C. App. This Advisory Committee was originally established pursuant to section 286(k) of the Immigration and Nationality Act (INA), codified at title 8 U.S.C. 1356(k), which references the Federal Advisory Committee Act (5 U.S.C. App.). With the merger of the Immigration and Naturalization Service into the U.S. Department of Homeland Security (DHS), the Advisory Committee's responsibilities were transferred from the Attorney General to the Commissioner of U.S. Customs and Border Protection (CBP) pursuant to section 1512(d) of the Homeland Security Act of 2002.

The Committee

Purpose and Objective: The purpose of the Committee is to provide advice to the Commissioner of CBP and the Secretary of DHS on issues related to the performance of airport and seaport inspections involving agriculture, customs, and immigration concerns on a regular basis in an open and candid atmosphere. The Committee provides a critical and unique forum for distinguished representatives of diverse industry sectors to present their views and advice directly to CBP officials on issues concerning staffing levels, inspectional programs, and user fees.

Balanced Membership Plans: The members will be selected by the Commissioner of CBP (subject to approval by the Secretary of DHS) to represent the point of view of the airline, cruise ship, transportation, and other industries who may be subject to immigration and agriculture and/or customs inspection user fees. It is intended that the committee will be composed of candidates with diverse views, thus creating a balanced forum.

Committee Meetings

The Committee generally meets biannually, although additional meetings may be scheduled. The Committee is co-chaired by the Deputy Assistant Commissioner for CBP's Office of Administration (formerly the Office of Finance), and the Deputy Assistant Commissioner for CBP's Office of Field Operations.

Committee Membership

CBP is increasing the membership of this committee from the existing 10 members up to 15 members. New members will be appointed to serve a term of up to twenty-four months.

Membership on the Committee is personal to the appointee. Under the Charter, a member may not send an alternate to represent him or her at a Committee meeting. However, since Committee meetings are open to the public, another person from a member's organization may attend and observe the proceedings in a nonparticipating capacity. Regular attendance is essential; the Charter provides that a member who is absent for two consecutive meetings or two meetings in a calendar year may be recommended for replacement on the Committee.

Members who are currently serving on the Committee are eligible to re-apply for membership. A new application letter (see ADDRESSES above) is required, but it may incorporate reference materials previously filed (please attach courtesy copies).

Members of the Airport and Seaport Inspections User Fee Advisory Committee will represent their respective interest groups and are not Special Government Employees as defined in section 202(a) of title 18, United States Code.

Members will not be compensated by the Federal Government for their service as members of the Airport and Seaport Inspections User Fee Advisory Committee.

Application for Advisory Committee Appointment

There is no prescribed format for the application. Applicants may send a letter describing their interest and qualifications and enclose a resume.

Any interested person wishing to serve on the Committee must provide the following:

• Statement of interest and reasons for application; and

• Complete professional biography or resume.

In support of the policy of the DHS on gender and ethnic diversity, qualified women and members of minority groups are encouraged to apply for membership.

Dated: December 23, 2009.
Jayson P. Ahern,
Acting Commissioner, U.S. Customs and Border Protection.

[FR Doc. E9-31007 Filed 12-29-09; 8:45 am]

BILLING CODE 9111-14-P